DEPARTMENT OF ENERGY

Federal Energy Regulatory Commission

[Project No. 2610-012]

Northern States Power Company; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2610-012.

c. Date Filed: December 30, 2022.

d. Applicant: Northern States Power Company (Northern States).

e. Name of Project: Saxon Falls Hydroelectric Project (project).

f. Location: On the Montreal River in Gogebic County, Michigan and Iron County, Wisconsin.

g. Filed Pursuant to: Federal Power Act, 16 U.S.C. 791 (a)-825(r).

h. Applicant Contact: Donald R. Hartinger, Director—Renewable Operation, 414 Nicollet Mall FL 2, Minneapolis, MN 55401; telephone at (651) 261-7668; email at donald.r.hartinger@xcelenergy.com.

i. FERC Contact: Nicholas Ettema, Project Coordinator, Great Lakes Branch, Division of Hydropower Licensing; telephone at (312) 596-4447; email at nicholas.ettema@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Saxon Falls Hydroelectric Project (P-2610-012).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project includes a dam that consists of: (1) a 250-foot-long non-overflow earthen embankment; (2) a 57-foot-long non-overflow concrete section; (3) a 31-foot-long non-overflow concrete section with a 19-foot-long intake structure with an 8-foot-long gate and a trashrack with 1-inch clear bar spacing; (4) a 30-foot-long concrete section with an 26-foot-long Tainter gate; and (5) a 127-foot-long spillway section with a crest elevation of 997.0 feet National Geodetic Vertical Dam of 1929 (NGVD 29). The dam creates an impoundment with a surface area of 70 acres at an elevation of 997.0 feet NGVD 29.

From the impoundment, water flows through the intake structure to a 1,607-foot-long conduit with a surge tank, and two 207-foot-long penstocks. From the penstocks, water is conveyed to a 52-foot-long, 30-foot-wide powerhouse that contains two 750-kilowatt (kW) horizontal turbine-generator units, for a total installed capacity of 1,500 kW. Water is discharged from the powerhouse directly to the Montreal River. The project creates an approximately 2,400-foot-long bypassed reach of the Montreal River. A minimum flow pipe extends from the 31-foot-long non-overflow section of the dam to provide flow to the bypassed reach.

Project recreation facilities include a boat ramp on the southern shoreline of the impoundment approximately 180 feet upstream of the dam. Northern States also maintains the following non-project recreation facilities in the project boundary: (1) a hand-carry boat access site on the southern shore of the impoundment, adjacent to the dam; (2) a parking area that provides access to the impoundment boat access site and the project boat ramp; (3) a hand-carry boat access site (tailwater access site) and parking area on the southern shoreline of the Montreal River, approximately 1,900 feet downstream of the dam; and (4) a scenic overlook on the southern shoreline of the bypassed reach, upstream of the tailwater access site.

Electricity generated at the powerhouse is transmitted to the electric grid via a 2.4-kilovolt (kV) overhead transmission line and a 2.4/34.5-kV step-up transformer. The minimum and maximum hydraulic capacities of the powerhouse are 48 and 170 cubic feet per second (cfs), respectively. The average annual energy production of the project from 2017 through 2021 was 10,015.3 megawatt-hours.

Northern States operates the project in run-of-river mode, such that project outflow approximates inflow to the impoundment. The current license requires Northern States to: (1) minimize fluctuations of the impoundment surface elevation; (2) maintain a minimum impoundment elevation of 997.0 feet NGVD 29 from ice-out through June 1; (3) maintain an impoundment elevation between a minimum of 996.5 and a maximum of 997.0 feet NGVD 29 from June 2 through ice-out; (4) release a minimum flow of 5 cfs or inflow, whichever is less, to the bypassed reach from ice-out through October 31 (ice-free season) each year; (5) limit impoundment drawdowns for maintenance and repair to the period of June 1 through December 31, and limit the rate of any such drawdowns to a maximum of 1 foot per 24 hours for the first 2 feet and 0.5 foot per 24 hours thereafter; (6) implement a Cultural Resources Monitoring Plan to protect cultural resources; and (7) operate and maintain the project recreation facilities.

Northern States proposes to revise the project boundary around the impoundment to follow a contour elevation of 997.0 feet NGVD 29, which would result in a reduction in the total acreage of the project boundary upstream of the project dam, from 159 acres to 71.7 acres. Additionally, Northern States proposes to add 2.7 acres of land to the project boundary near the dam and remove 20 acres of land from the project boundary along the bypassed reach and river downstream of the powerhouse.

Northern States proposes to continue to operate the project in run-of-river mode and maintain water surface elevations as described above. In addition, Northern States proposes to release a minimum aesthetic flow of 5 cfs or inflow, whichever is less, from the Saturday before Memorial Day to October 15, except on weekends and holidays, when a minimum aesthetic flow of 10 cfs or inflow, whichever is less, would be released from 8:00 a.m. to 8:00 p.m. Northern States also proposes the following measures: (1) develop an operation compliance monitoring plan; (2) develop an invasive species management plan that includes biennial surveys for invasive species; (3) protect bald eagles by scheduling any ground-disturbing activities at recreation sites to occur between August 1 and January 15 for any work within 660 feet of any eagle nest; (4) avoid the removal of trees greater than 3 inches in diameter from June 1 through July 31, and follow the U.S. Fish and Wildlife Service's guidance to protect the northern long-eared bat and tricolored bat; (5) continue to maintain the boat ramp as a project recreation facility and improve the boat ramp via grading and/or adding gravel; (6) discontinue maintenance of the non-project hand-carry boat access site that is on the shoreline of the impoundment, adjacent to the dam; (7) provide impoundment access for hand-carry boaters at the project boat ramp and install directional and safety signage for hand-carry boaters at the boat ramp; (8) maintain the parking area for the boat ramp as a project recreation facility; (9) maintain the scenic overlook of the bypassed reach as a project recreation facility and install safety signage at the overlook; (10) maintain the tailwater access site and associated parking area as project recreation facilities; (11) develop a whitewater recreation plan that includes provisions for two, 3-hour whitewater flow releases between May and September, generator ramping rates for whitewater flow releases, publishing river flow information on the internet, and improving access to the tailwater access site by installing an electronic card reader that opens a locked gate; and (12) develop a historic properties management plan that includes shoreline erosion surveys every 5 years.

m. A copy of the application can be viewed on the Commission's website at https://www.ferc.gov using the “eLibrary” link. Enter the docket number excluding the last three digits in the docket number field to access the document (i.e., P-2610). For assistance, contact FERC Online Support.

n. Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification.

p. Procedural schedule: The application will be processed according to the following schedule. Revisions to the schedule will be made as appropriate.

Milestone | Target date
Filing of Comments, Recommendations, Terms and Conditions, and Prescriptions | December 2024.
Filing of Reply Comments | January 2025.

q. Final amendments to the application must be filed with the Commission no later than 30 days from the issuance date of this notice.

Dated: October 10, 2024.
Debbie-Anne A. Reese,
Secretary.

[FR Doc. 2024-23940 Filed 10-16-24; 8:45 am]

BILLING CODE 6717-01-P